DEPARTMENT OF HEALTH AND HUMAN SERVICES

Performance Review Board Members

Title 5, U.S.C. Section 4314(c)(4) of the Civil Service Reform Act of 1978, Public Law 95-454, requires that the appointment of Performance Review Board Members be published in the Federal Register.

The following persons may be named to serve on the Performance Review Boards or Panels, which oversee the evaluation of performance appraisals of Senior Executive Service members of the Department of Health and Human Services.

Russell J. Abbott

Mary K. Affeldt

Jay Angoff

Kathleen R. Annette

Jeanne A. Anson

F. R. Aronoff

Carol L. Austin

Joellen M. Austin

Deborah M. Autor

Charlene Avery

Jane A. Axelrad

Lawrence L. Bachorik

Jennifer Backus

Andrew C. Baldus

Glenda F. Barfell

Colleen F. Barros

Daniel J. Barry

Paul S. Bartley

Amy Bassano

Christopher H. Bates

Catherine P. Beck

Carol J. Bennett

David E. Benor

Rodney L. Benson

Susan Maureen Bernard

Joyce T. Berry

Malcolm J. Bertoni

Courtney R. Billet

Stephen B. Blount

Jonathan D. Blum

Eric M. Blumberg

David Blumenthal

Julie C. Boughn

Jennifer L. Boulanger

Marcia K. Brand

William G. Breithaupt

Angela M. Brice Smith

Barbara B. Broman

Peter P. Budetti

Gary J. Buehler

William G. Burel

John T. Burklow

Adriane R. Burton

Laina M. Bush

David S. Cade

Joseph R. Campbell

Michael W. Carleton

Cathy T. Carter

Lester D. Cash

George F. Chandler

Tina M. Cheatham

Laura W. Cheever

Beverly I. Chernaik

Giovanna M. Chiedi

Mark B. Childress

Kenneth Y. Choe

Richard M. Church

Frank D. Cipolloni

H. Westley Clark

Henry Claypool

Norris W. Cochran

Rima Cohen

Mary Sheila Conley

Glenda J Conroy

Alan R. Constantian

Cecil P. Conway Jr.

Dara A. Corrigan

Curtis L. Coy

Kelly Cronin

Regan L. Crump

Susan J. Cuerdon

Fatima A. Cuevas

William P. Cullen

Anthony J. Culotta

Robert C. Curlee

Michael E. Curtis

Jodi Goldstein Daniel

Todd D. Danielson

Nils Daulaire

Beverly W. Davis

Jeffrey S. Davis

L'Tonya J. Davis

Lori E. Davis

Diann Dawson

Molly P. Dawson

Hazel D. Dean

Gregory E. Demske

Philip Derfler

Marie P. Detherage

Elizabeth Devoss

Avis D. Dickey

Paul Dioguardi

Jason A. Donaldson

Alan S. Dorn

Gregory Doyle

Carlton M. Duncan

Dorothy A. Dupree

Shapour Ebadi

Barbara C. Edwards

Brenda K. Edwards

David K. Elder

Athena S. Elliott

Joseph J. Ellis

Elizabeth Engel

Diana Espinosa

Denise Esposito

James R. Farris Jr.

Barbara H. Fisher

J. M. Fitzmaurice

Catherine A. Flickinger

Valerie Florance

Ashley F. Flory

Yvette E. Fontenot

Tracey H. Forfa

Richard S. Foster

Elizabeth A. Fowler

Richard G. Frank

Diane J. Frasier

Thomas R. Frieden

Charles P. Friedman

Charles H. Fritz Ii

Charlene Frizzera

Robinsue Frohboese

Frank Fuentes Jr.

Sharon M. Fujii

Robin S. Funston

Daniel Galik

Susan N. Gardner

Donna M. Garland

Jacqueline S. Garner

Edward C. Gendron

John P. Gentile

Denise H. Geolot

Lillian J. Gill

Prudence J. Goforth

Larry J. Goldberg

Naomi C. Goldstein

Sally A. Good Burton

Christie A. Goodman

Maureen E. Gormley

Joe J. Green

Mark H. Greenberg

Elizabeth E. Greene

Ricardo H. Grijalva

Randy Grinnell

Nancy J. Gunderson

Anne C. Haddix

Amy B. Hall

Anne E. Hall

William H. Hall

Thomas E. Hamilton

John T. Hammarlund

Mark Handelman

Elisabeth A. Handley

David A. Hansell

Frances M. Harding

Carl L. Harper

Antonia T. Harris

Barbara W. Harris

David R. Harris

Walter S. Harris

Gary J. Hartz

Florence P. Haseltine

Michael M. Hash

Debbra M. Hattery

Stephen K. Heffler

Dianne E. Heffron

Janet Heinrich

Lynn C. Hellinger

Deborah J. Henderson

Rosemarie Henson Sampson

Mary Ann Higgins

Timothy B. Hill

Jeffrey Y. Hinson

Janice L. Hoffman

Kimberly A. Holden

Edward J. Holland Jr.

Mary J. Horner

Sally A. Howard

Sharon H. Hrynkow

John Hubbard Jr.

Kathy L. Hudson

Dora L. Hughes

Betsy L. Humphreys

Edward L. Hunter

Terry L. Hurst

Jeanne C. Ireland

Karen E. Jackson

Holli B. Jaffe

John S. Jarman

George E. Jenkins

Alfred C. Johnson

Earl S. Johnson

Lenora E. Johnson

Paul R. Johnson

Wanda K. Jones

Maria D. Joyce

Daryl W. Kade

Brian E. Kamoie

Daniel F. Kane

Lisa G. Kaplowitz

Susan Karol

Ruth E. Katz

Robin I. Kawazoe

Marilyn J. Keefe

Robert E. Keith

Alexia Kathryn Kelley

Howard D. Kelsey

Kathleen A. Kendrick

Judith N. Kenny

James T. Kerr

William D. Kerr

Margo D. Kerrigan

Thomas M. Kickham

Terris A. King

Kimberly C. Kleine

Paula L. Kocher

Richard T. Kopanda

Christine A. Kosmos

Alan A. Kotch

Sheldon Kotzin

A Michon Kretschmaier

Richard G. Kronick

James M. Kulikowski

Jeanne Lambrew

Michael M. Landa

Crayton J. Lankford Jr.

Steven B. Larsen

William S. Lasowski

Mary A. Laureno

Peter V. Lee

Joel J. Lerner

Caroline T. Lewis

Caya B. Lewis

Sharon B. Lewis

Carol D. Linden

Joan Lombardi

Timothy P. Love

James Macrae

Thomas P. Madden

Christine M. Major

Mary Anne Malarkey

Dennis G. Malcomson

Diane M. Maloney

Christopher Mandregan Jr.

Cynthia R. Mann

Teri Ann Manolio

Michael T. Marron

Anna L. Marsh

Michael R. Martin

Bethany R. Martino

Katherine Massey

Mary B. Mazanec

Susan D. McAndrew

William M. McCabe

Daniel G. McChesney

William A. McConagha

Leon R. McCowan

Barbara M. McGarey

Patrick O. McGarey

Ruth E. McKee

Cheryl L. McMillen

Sidney A. McNairy Jr.

Robert G. McSwain

Reginald R. Mebane

Donald E. Meeks

Eugene A. Migliaccio

Karen A. Milgate

Alfred R. Miller

Tamara L. Miller

George G. Mills Jr.

Samuel P. Mitchell

Madeline Mocko

John W. Molina

John T. Monahan

Judith A. Monroe

Maria C. Montilla

Jean D. Moody-Williams

Danielle R. Moon

Thomas G. Morford

Douglas Morgan

Lewis Morris

Thomas F. Morris

Oliver B. Morton

Farzad Mostashari

Donald B. Moulds

Molly V. Muldoon

Mary J. Mullaney

Theresa M. Mullin

Deanna B. Murphy

Thomas G. Murphy

Renard L. Murray

David A. Naimon

Eskinder Negash

Jon L. Nelson

William P. Nichols

Geraldine A. Nicholson

Teresa Nino

Robert M. Noonan

Steven D. Novy

Glen J. Nowak

William P. O'Rourke

Nancy B. O'Connor

Hankie Poafpybitty Ortiz

Cynthia R. Padilla

Andrea J. Palm

Anand K. Parekh

Todd Y. Park

Gerald W. Parker

Sharon E. Parrott

Elaine P. Parry

Dalton G. Paxman

Michael L. Perdue

Segundo Pereira

Wesley R. Perich

John J. Petillo

Laura Petrou

Dana J. Petti

Julia A. Pierce

Lori S. Pilcher

Vivian W. Pinn

Melinda K. Plaisier

Mark D. Polston

Richard A. Popper

Diane D. Porter

William T. Porter

A. Kathryn Power

Joy L. Pritts

Douglas J. Pruett

Alan S. Rabson

Charlene M. Red Thunder

George M. Reeb

Nanette F. Reilly

Andrew S. Rein

Lynne L. Rice

Elizabeth Richter

Deborah H. Ridgely

Brian P. Ritchie

Robin A. Robinson

Anthony D. Rodgers

Mark S. Roh

Dennis O. Romero

Luis A. Rosero

Mona J. Rowe

Gerald T. Roy

Bryan Samuels

Yvette L. Sanchez-Fuentes

William D. Saunders

David W. Sayen

James V. Scanlon

Donald L. Schneider

Lawrence N. Self

James D. Seligman

Suzanne J. Servis

Meena Seshamani

Raffie Shahrigian

Joshua Sharfstein

John D. Shatto

Karen M. Shebesh

Jean K. Sheil

Patrick A. Shirdon

Donald E. Shriber

Richard T. Sizemore III

Howard R. Sklamberg

William Slikker

Jean R. Slutsky

Dawn L. Smalls

Barbara M. Smith

Marc Smolonsky

Anna M. Snyder

Joyce G. Somsak

Richard M. Sorian

Lillian Sparks

Philip C. Spiller

Paul I. Spitalnic

Rebecca H. Spitzgo

Nancy Stade

Douglas L. Steiger

Gary A. Steinberg

Steven Silverman

Kenneth W. Stith

Ellen L. Stover

James M. Strachan

George A. Strait Jr.

Barry M. Straube

Stewart H. Streimer

Laverne Y. Stringfield

Patricia A. Stroup

Edgar M. Swindell

Jay A. Swope

Marilyn B. Tavenner

Deborah A. Taylor

John M. Taylor

Michael R. Taylor

John L. Teeter

Joyce A. Thomas

Delores E. Thompson

Penny R. Thompson

Constance B. Tobias

Brenda J. Tranchida

Anthony F. Trenkle

Brian Trent

Cynthia G. Tudor

Vicki Turetsky

Richard J. Turman

Ralph S. Tyler

Timothy A. Ulatowski

Robert T. Vaccaro

Mary Lou Valdez

Peter C. Van Dyck

Steven D. Vaughn

Robert Velasco II

Georgina C. Verdugo

Terrell L. Vermillion

Carmen S. Villar

Janet L. Vogel

Victoria Wachino

Dennis C. Wagner

Mary K. Wakefield

Edwin L. Walker

Sondra S. Wallace

Gerald T. Walters

David E. Wardrop Jr.

James W. Weber

Mark A. Weber

Michael Weinrich

Jaye Weisman

Marc R. Weisman

Denise L. Wells

Daniel G. Wheeland

Francis P. White

Jacquelyn Y. White

Alfred H. Whitley

David L. Whitmer

Donalda L. Wilder

Carlis V. Williams

Dennis P. Williams

Thomas D. Williams

Laurence D. Wilson

Helen N. Winkle

Ann H. Wion

Phyllis S. Wolfe

Edwin Woo

John T. Wren

Donald J. Wright

Stuart E. Wright

Margaret M. Yanchuk

Kevin S. Yeskey

Robert Yetter

Samir Zakhari

Phyllis M. Zucker

Dated: September 15, 2010.
Denise L. Wells,
Deputy Assistant Secretary for Human Resources, Department of Health and Human Services.

[FR Doc. 2010-24372 Filed 9-28-10; 8:45 am]

BILLING CODE 4151-17-P